SECURITIES AND EXCHANGE COMMISSION

[File No. 500-1]

In the Matter of ICC Worldwide, Inc., Innova Pure Water, Inc., Paladin Holdings, Inc., Performing Brands, Inc., Petrol Oil and Gas, Inc., Platinum Research Organization, Inc., Renew Energy Resources, Inc., and Vital Living, Inc.; Order of Suspension of Trading

December 5, 2013.

It appears to the Securities and Exchange Commission that there is a lack of current and accurate information concerning the securities of ICC Worldwide, Inc. because it has not filed any periodic reports since the period ended June 30, 2009.

It appears to the Securities and Exchange Commission that there is a lack of current and accurate information concerning the securities of Innova Pure Water, Inc. because it has not filed any periodic reports since the period ended March 31, 2007.

It appears to the Securities and Exchange Commission that there is a lack of current and accurate information concerning the securities of Paladin Holdings, Inc. because it has not filed any periodic reports since the period ended June 30, 2008.

It appears to the Securities and Exchange Commission that there is a lack of current and accurate information concerning the securities of Performing Brands, Inc. because it has not filed any periodic reports since the period ended June 30, 2008.

It appears to the Securities and Exchange Commission that there is a lack of current and accurate information concerning the securities of Petrol Oil and Gas, Inc. because it has not filed any periodic reports since the period ended September 30, 2008.

It appears to the Securities and Exchange Commission that there is a lack of current and accurate information concerning the securities of Platinum Research Organization, Inc. because it has not filed any periodic reports since the period ended September 30, 2008.

It appears to the Securities and Exchange Commission that there is a lack of current and accurate information concerning the securities of Renew Energy Resources, Inc. because it has not filed any periodic reports since the period ended December 31, 2007.

It appears to the Securities and Exchange Commission that there is a lack of current and accurate information concerning the securities of Vital Living, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 5, 2013, through 11:59 p.m. EST on December 18, 2013.

By the Commission.
Jill M. Peterson,
Assistant Secretary.

[FR Doc. 2013-29416 Filed 12-5-13; 4:15 pm]

BILLING CODE 8011-01-P